DEPARTMENT OF TRANSPORTATION

Surface Transportation Board

[Docket No. FD 35363]

R.J. Corman Railroad Property, LLC—Acquisition Exemption—NC Railroad, Inc

R. J. Corman Railroad Property, LLC (RJC Railroad Property), a Class III rail carrier, filed a verified notice of exemption under 49 CFR 1150.41 to acquire from NC Railroad, Inc. (NCRL) approximately 42 route miles of rail line between milepost 0.144 at or near Oneida and milepost 42.0 at or near Devonia, in Scott, Campbell, and Anderson Counties, Tenn. The notice was served and published in the Federal Register on April 9, 2010 (75 FR 18,253), and became effective on April 25, 2010.

On May 28, 2010, RJC Railroad Property filed a correction to the notice. According to RJC Railroad Property, the acquisition for which exemption was sought only involves the segment between milepost 0.95 (not milepost 0.144) and milepost 42.0. Thus, RJC Railroad Property indicates that the correct description of the subject line is that it extends between milepost 0.95 at or near Oneida and milepost 42.0 at or near Devonia. This correction is recognized here. All remaining information from the April 9, 2010 notice remains unchanged.

The acquisition transaction is related to the notice of exemption in Docket No. FD 35364, R. J. Corman Railroad Company/Bardstown Line—Lease and Operation Exemption—R. J. Corman Railroad Property, LLC, in which R. J. Corman Railroad Company/Bardstown Line filed a notice of exemption to lease and operate the line. The description of the line in Docket No. FD 35364 also is being corrected by separate notice.

Board decisions and notices are available on our Web site at http://www.stb.dot.gov.

Decided: June 29, 2011.
By the Board, Joseph H. Dettmar, Acting Director, Office of Proceedings.
Jeffrey Herzig,
Clearance Clerk.

[FR Doc. 2011-16700 Filed 7-1-11; 8:45 am]

BILLING CODE 4915-01-P